DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On July 25, 2024, OFAC determined that the property and interests in property subject to U.S. jurisdiction of the following persons are blocked under the relevant sanctions authorities listed below.

Individuals

1. BISIMWA, Bertrand, North Kivu, Congo, Democratic Republic of the; Uganda; DOB 08 Sep 1972; POB Bukavu, South Kivu, Congo, Democratic Republic of the; nationality Congo, Democratic Republic of the; Gender Male (individual) [DRCONGO].

Designated pursuant to section 1(a)(ii)(E)(ii) of Executive Order (E.O.) 13413 of October 27, 2006, “Blocking Property of Certain Persons Contributing to the Conflict in the Democratic Republic of the Congo,” as amended by E.O. 13671 of July 8, 2014, “Taking Additional Steps To Address the National Emergency With Respect to the Conflict in the Democratic Republic of the Congo” (E.O. 13413, as amended) for being a leader of M23, an entity whose property and interests in property are blocked pursuant to E.O. 13413, as amended.

2. NANGAA, Corneille Yobeluo (a.k.a. YOBELUO, Corneille Nangaa), Boulevard Biangala, No. 36 Q, Salongo Sud C, Lemba, Kinshasa, Congo, Democratic Republic of the; North Kivu, Congo, Democratic Republic of the; Uganda; 34 Tshatshi Avenue, Gombe, Kinshasa, Congo, Democratic Republic of the; DOB 09 Jul 1970; POB Bagboya, Haut-Uele, Congo, Democratic Republic of the; nationality Congo, Democratic Republic of the; Gender Male; Passport OP1097934 (Congo, Democratic Republic of the) expires 24 Jun 2027; alt. Passport DP0000149 (Congo, Democratic Republic of the) issued 12 Jan 2016 expires 11 Jan 2021; alt. Passport DP0003850 (Congo, Democratic Republic of the) issued 20 Nov 2017 expires 19 Nov 2022 (individual) [DRCONGO].

Designated pursuant to section 1(a)(ii)(E)(ii) of E.O. 13413, as amended, for being a leader of Congo River Alliance, an entity whose property and interests in property are blocked pursuant to E.O. 13413, as amended.

3. SEMATAMA, Charles (a.k.a. “Sebanyana”), Hauts Plateaux, South Kivu, Congo, Democratic Republic of the; DOB 1975; POB Kalunyo Village, Kamombo Localities, South Kivu, Congo, Democratic Republic of the; nationality Congo, Democratic Republic of the; Gender Male (individual) [DRCONGO].

Designated pursuant to section 1(a)(ii)(E)(ii) of E.O. 13413, as amended, for being a leader of Twirwaneho, an entity whose property and interests in property are blocked pursuant to E.O. 13413, as amended.

Entities

1. CONGO RIVER ALLIANCE (a.k.a. ALLIANCE FLEUVE CONGO; a.k.a. “AFC”), Congo, Democratic Republic of the; website https://alliancefleuvecongo.org; Email Address alliancefleuvecongo@gmail.com; Organization Established Date 15 Dec 2023 [DRCONGO].

Designated pursuant to section 1(a)(ii)(G) of E.O. 13413, as amended, for having acted or purported to act for or on behalf of, directly or indirectly, M23, an entity whose property and interests in property are blocked pursuant to E.O. 13413, as amended.

2. TWIRWANEHO, Hauts Plateaux, South Kivu, Congo, Democratic Republic of the; Organization Established Date 2008; Target Type Armed Group [DRCONGO].

Designated pursuant to section 1(a)(ii)(C)(3) of E.O. 13413, as amended, for being responsible for or complicit in, or having engaged in, directly or indirectly, the targeting of women, children, or any civilians through the commission of acts of violence (including killing, maiming, torture, or rape or other sexual violence), abduction, forced displacement, or attacks on schools, hospitals, religious sites, or locations where civilians are seeking refuge, or through conduct that would constitute a serious abuse or violation of human rights or a violation of international humanitarian law in or in relation to the Democratic Republic of the Congo.

Dated: July 25, 2024.
Lisa M. Palluconi,
Deputy Director, Office of Foreign Assets Control, U.S. Department of the Treasury.

[FR Doc. 2024-18452 Filed 8-16-24; 8:45 am]

BILLING CODE 4810-AL-P